DEPARTMENT OF DEFENSE

Department of the Navy

Public Hearing on the Draft Supplement to the 1997 Environmental Impact Statement for the Yuma Training Range Complex

AGENCY: Department of the Navy, DOD.

ACTION: Announcement of public hearing.

SUMMARY: Pursuant to the National Environmental Policy Act as implemented by the Council on Environmental Quality Regulations (40 CFR parts 1500-1508), the Department of the Navy has prepared a Supplement to the 1997 Environmental Impact Statement for the Yuma Training Range Complex to evaluate the cumulative impacts on the Sonoran Pronghorn, an endangered species, of Marine Corps actions when added to other past, present and reasonably foreseeable future actions. Three public hearings will be held in order to collect public comments on the document as indicated below.

DATES: Public hearings will be held on the following dates and at the locations listed below.

1. Tuesday, July 10, 2001, in the Gila Vista Junior High School Cafeteria, 2245 Arizona Avenue, Yuma, AZ, 5:30 to 8:00 p.m.

2. Wednesday, July 11, 2001, in the Gila Bend High School Cafeteria, 308 North Martin, Gila Bend, AZ, 5:30 to 8:00 p.m.

3. Thursday, July 12, 2001, in the Northwest Neighborhood Center, 2160 North 6th Ave, Tucson, AZ, 5:30 to 8:00 p.m.

ADDRESSES: All written comments regarding the document should be received by July 30, 2001, and may be directed to Commander, Southwest Division, Naval Facilities Engineering Command, Code 5DPR.DT (Attn: Ms. Deb Theroux), 220 Pacific Highway, San Diego, CA, 92132-5190.

FOR FURTHER INFORMATION CONTACT: Ms. Deb Theroux, telephone (619) 532-1162, FAX (619) 522-1242.

SUPPLEMENTARY INFORMATION: The Marine Corps completed an Environmental Impact Statement (EIS) in 1997 addressing its military aviation and associated ground training impacts on the Yuma Training Range Complex. This complex includes portions of the Barry M. Goldwater Range, AZ, which contains habitat for the Sonoran Pronghorn.

On February 12, 2001, the United States District Court for the District of Columbia found that the cumulative impact analysis in the 1997 Yuma Training Range Complex EIS was deficient in that it failed to provide sufficient analysis of cumulative impacts on the Sonoran Pronghorn in accordance with 40 CFR 1508.7. The Court remanded the matter to the Marine Corps for further consideration of such impacts.

Accordingly, the Department of the Navy is preparing a supplement to the EIS, in accordance with 40 CFR 1502.9(C), that will evaluate the cumulative impacts on the Sonoran Pronghorn of Marine Corps actions when added to other past, present, and reasonably foreseeable future actions regardless of what agency or person undertakes such other actions. The draft supplemental environmental impact statement analyzing these impacts was distributed to the public on June 8, 2001.

Three public hearings on the document will be held as discussed in the DATES section of this notice. The purpose of these hearings is for interested persons to review displays and ask questions regarding the cumulative effects analysis, and to provide comments on the draft supplemental environmental impact statement. Each hearing will be conducted in an open house format.

Dated: June 26, 2001.
Jane Brattain,
Acting Head, U.S. Marine Corps, Military Construction and Land Use Branch Facilities and Services Division Installations and Logistics Department Headquarters.

[FR Doc. 01-16448 Filed 6-28-01; 8:45 am]

BILLING CODE 3810-FF-M